DEPARTMENT OF HEALTH AND HUMAN SERVICES

Administration on Aging

Availability of Funding Opportunity Announcement

Funding Opportunity Title/Program Name: Title VI, Part B—Native Hawaiian Program.

Announcement Type: Initial announcement.

Funding Opportunity Number: Program Announcement No. AoA-06-01.

Statutory Authority: The Older Americans Act, Public Law 106-501.

Catalog of Federal Domestic Assistance (CFDA) Number: 93.047, Title VI.

Dates: The deadline date for the submission of applications is February 15, 2006.

I. Funding Opportunity Description

This announcement seeks applications for the provision of supportive and nutrition services to Native Hawaiian elders who are 60 years of age or older. The Act provides that a public or nonprofit private organization having the capacity to provide services for Native Hawaiians is eligible for assistance under Title VI, Part B, if the organization will serve at least 50 Native Hawaiian individuals who have attained 60 years of age or older, and the organization demonstrates the ability to deliver supportive services and nutrition services.

For the purposes of Title VI, Part B, the term “Native Hawaiian” means an individual any of whose ancestors were natives of the area, which consists of the Hawaiian Islands prior to 1778. Nutritional services, and information and assistance services, are required by the Act. Nutrition services include congregate meals and home-delivered meals. Supportive services include information and assistance, transportation, chore services, and other supportive services, which contribute to the welfare of older Native Hawaiians. These services must be available for older Native Hawaiians living in the geographic boundaries of the Title VI, Part B, service area proposed by the applicant organization and approved by the Assistant Secretary for Aging.

Organizations receiving funds to provide services to older Native Hawaiians shall assure that all activities will be conducted in coordination with the State Agency on Aging and with the activities carried out under Title III in the same geographical area. A detailed description of the funding opportunity may be found at www.aoa.gov under AoA Grant Programs—Funding Opportunities and www.olderindians.org.

II. Award Information

1. Formula Grants.

2. Distribution of funds among Native Hawaiian organizations is subject to the availability of appropriations to carry out Title VI. Funding levels for Fiscal Year 2005 range from $73,620 to $179,810. These amounts are an estimation for Fiscal Year 2006 funding and subject to change. As required by the OAA Section 624A, subject to the availability of appropriation, organizations who were grantees in 1992 will not be funded less than the 1991 grant award. New applications will be funded pending availability of additional appropriations.

III. Eligibility Criteria and Other Requirements

1. Eligible Applicants

All current Title VI, Part B grantees and new applicants that are public or nonprofit private organizations having the capacity to provide services for Native Hawaiians are encouraged to apply.

2. Cost Sharing or Matching

There is no required cost sharing or matching for these grants.

3. DUNS Number

All grant applicants must obtain a DUNS number from Dun and Bradstreet. It is a nine-digit identification number, which provides unique identifiers of single business entities. The DUNS number is free and easy to obtain. Organizations can receive a DUNS number at no cost by calling the dedicated toll-free DUNS Number request line at 1-866-705-5711 or by using this link: https://www.whitehouse.gov/omb/grants/duns_num_guide.pdf.

4. Intergovernmental Review

Executive Order 12372, Intergovernmental Review of Federal Programs, is not applicable to these grant applications.

IV. Application and Submission Information

1. Address To Request Application Package

Application kits are available by writing to the U.S. Department of Health and Human Services, Administration on Aging, Office of American Indian, Alaskan Native and Native Hawaiian Programs, Washington, DC 20201, or by calling 202/357-3537. Applications kits may also be found on www.AoA.gov or www.olderindians.org.

2. Address for Application Submission

Applications may be mailed to the U.S. Department of Health and Human Services, Administration on Aging, Office of Grants Management, Washington, DC 20201, attn: Margaret Tolson (AoA-06-01).

Applications may be delivered (in person, via messenger) to the U.S. Department of Health and Human Services, Administration on Aging, Office of Grants Management, One Massachusetts Avenue, NW, Room 4604, Washington, DC 20001, attn: Margaret Tolson (AoA-06-01). If you elect to mail or hand deliver your application you must submit one original and two copies of the application; an acknowledgement card will be mailed to applicants.

3. Submission Dates and Times

To receive consideration, applications must be received by the deadline listed in the Dates section of this notice.

V. Responsiveness Criteria

Each application submitted will be screened to determine whether it was received by the closing date and time.

Applications received by the closing date and time will be screened for completeness and conformity with the requirements outlined in Sections III and IV of this notice and the Program Announcement. Only complete applications that meet these requirements will be reviewed.

VI. Application Review Information

Applications are reviewed to ensure that all required screening criteria and narrative information below is included:

• Has the ability to provide nutrition and supportive services consistent with the Older American Act;

• Has conducted a current Needs Assessment (or assurance that one will be completed within the first year of the project);

• Describes coordination efforts with Title III programs in the same geographical area;

• Describes their current or proposed policies and procedures, including fiscal control;

• Describes reporting and evaluation procedures;

• Narrative description of the Title VI, Part B, service area. The area to be served by Title VI, Part B, must have clear geographic boundaries. There is no prohibition, however, on its overlapping with areas served by Title III.

VII. Agency Contacts

Direct inquiries regarding programmatic issues to U.S. Department of Health and Human Services, Administration on Aging, Yvonne Jackson, Director, Office of American Indian, Alaskan Native and Native Hawaiian Programs, Washington, DC 20201, telephone: (202) 357-3501.

Dated: November 10, 2005.
Josefina G. Carbonell,
Assistant Secretary for Aging.

[FR Doc. 05-22769 Filed 11-16-05; 8:45 am]

BILLING CODE 4154-01-P